SMALL BUSINESS ADMISTRATION

Annual Meeting of The Regional Small Business Regulatory Fairness Boards Office of The National Ombudsman

AGENCY: U.S. Small Business Administration (SBA).

ACTION: Notice of open meeting of the Regional Small Business Regulatory Fairness Boards.

SUMMARY: The SBA, Office of the National Ombudsman, is issuing this notice to announce the location, date, time and agenda for the annual board meeting of the ten Regional Small Business Regulatory Fairness Boards. The meeting is open to the public.

DATES: The meeting will be held on Tuesday, August 20, 2019 from 9 a.m. to 4 p.m. EDT, and Wednesday, August 21, 2019 from 9 a.m. to 1 p.m. EDT.

ADDRESSES: The meeting will be at U.S. Small Business Administration, 409 3rd Street SW, Washington, DC 20416 at the concourse level in Eisenhower Halls A/B.

SUPPLEMENTAL INFORMATION: Pursuant to the Small Business Regulatory Enforcement Fairness Act (Pub. L. 104-121), Sec. 222, SBA announces the meeting of the Regional Small Business Regulatory Fairness Boards (Regional Regulatory Fairness Boards). The Regional Regulatory Fairness Boards are tasked to advise the National Ombudsman on matters of concern to small businesses relating to enforcement activities of agencies and to report on substantiated instances of excessive enforcement actions against small business concerns, including any findings or recommendations of the Board as to agency enforcement practice or policy.

The purpose of the meeting is to discuss the following topics related to the Regional Regulatory Fairness Boards:

—Introduction of the Regional Regulatory Fairness Boards and the staff of the Office of the National Ombudsman

—Panel Discussion with Federal Agency Representatives

—Facilitated discussion of ongoing regulatory issues for small business

—FY2018 Outcomes and comments regarding the Annual Report to Congress

—Office of Advocacy regulatory review

—SBA update and future outreach planning

FOR FURTHER INFORMATION CONTACT: The meeting is open to the public; however advance notice of attendance is requested. Anyone wishing to attend and/or make a presentation to the Regulatory Fairness Boards must contact John Kelly, Case Management Specialist, by August 5, 2019, in writing at the Office of the National Ombudsman, 409 3rd Street SW, Washington, DC 20416, by phone (888) 734-3247, by fax (202) 481-5719 or email ombudsman-events@sba.gov. Additionally, if you need accommodations because of a disability, translation services, or require additional information, please contact John Kelly as well.

For more information on the Office of the National Ombudsman, please visit our website at www.sba.gov/ombudsman.

Dated: July 22, 2019.
Nicole Nelson,
SBA Acting Committee Management Officer.

[FR Doc. 2019-16467 Filed 8-1-19; 8:45 am]

BILLING CODE P